DEPARTMENT OF THE TREASURY

United States Mint

Renewal of Currently Approved Information Collection: Comment Request for Customer Satisfaction and Opinion Surveys and Focus Group Interviews

AGENCY: United States Mint.

ACTION: Notice and request for comments.

SUMMARY: The United States Mint invites the general public and other Federal agencies to take this opportunity to comment on currently approved information collection 1525-0012, as required by the Paperwork Reduction Act of 1995, Public Law 104-13 (44 U.S.C. 3506(c)(2)(A)). The United States Mint, a bureau of the Department of the Treasury, is soliciting comments on the United States Mint customer satisfaction and opinion surveys and focus group interviews.

DATES: Written comments should be received on or before May 19, 2014 to be assured of consideration.

ADDRESSES: Direct all written comments to Yvonne Pollard; Compliance Branch; United States Mint; 801 9th Street NW., 6th Floor; Washington, DC 20220; (202) 354-6784 (this is not a toll-free number); YPollard@usmint.treas.gov.

FOR FURTHER INFORMATION CONTACT: Requests for additional information or copies of the information collection package should be directed to Yvonne Pollard; Compliance Branch; United States Mint; 801 9th Street NW., 6th Floor; Washington, DC 20220; (202) 354-6784 (this is not a toll-free number); YPollard@usmint.treas.gov.

SUPPLEMENTARY INFORMATION:

Title: United States Mint Customer Satisfaction and Opinion Surveys and Focus Group Interviews

OMB Number: 1525-0012

Abstract: The proposed customer satisfaction and opinion surveys or focus group interviews will allow the United States Mint to assess the acceptance of potential demand for, and barriers to, acceptance/increased demand for current and future United States Mint products, and the needs and desires of customers for more efficient, economical services.

Current Actions: The United States Mint conducts customer satisfaction surveys, focus groups, and interviews to measure customer opinion and assess acceptance of, potential demand for, and barriers to acceptance of United States Mint products, and to determine the level of satisfaction of United States Mint customers and the public.

Type of Review: Renewal of a currently approved information collection.

Affected Public: The affected public includes serious and casual numismatic collectors, dealers and persons in the numismatic business, and the general public.

Estimated Number of Respondents: The estimated number of annual respondents is 60,145.

Estimated Total Annual Burden Hours: The estimated number of annual burden hours is 12,603.

Requests for Comments: Comments submitted in response to this notice will be summarized and/or included in the request for Office of Management and Budget (OMB) approval. All comments will become a matter of public record. Comments are invited on: (a) Whether the collection of information is necessary for the proper performance of the functions of the agency, including whether the information shall have practical utility, (b) the accuracy of the agency's estimate of the burden of the collection of information, (c) ways to enhance the quality, utility, and clarity of the information to be collected, (d) ways to minimize the burden of the collection of information on respondents, including through the use of automated collection techniques or other forms of information technology, and (e) estimates of capital or start-up costs and costs of operation, maintenance, and purchase of services to provide information.

Dated: March 12, 2014.
Richard A. Peterson,
Deputy Director, United State Mint.

[FR Doc. 2014-05979 Filed 3-17-14; 8:45 am]

BILLING CODE 4810-37-P